DEPARTMENT OF HOMELAND SECURITY

U.S. Citizenship and Immigration Services

Agency Information Collection Activities: USCIS Case Status Online, Extension of a Currently Approved Information Collection; Comment Request

ACTION: 30-Day notice of information collection under review: USCIS case status online.

The Department of Homeland Security, U.S. Citizenship and Immigration Services (USCIS) is submitting the following information collection request to the Office of Management and Budget (OMB) for review and clearance in accordance with the Paperwork Reduction Act of 1995. The information collection was previously published in the Federal Register on January 30, 2012, at 77 FR 4574, allowing for a 60-day public comment period. USCIS did not receive any comments for this information collection.

The purpose of this notice is to allow an additional 30 days for public comments. Comments are encouraged and will be accepted until May 14, 2012. This process is conducted in accordance with 5 CFR 1320.10.

Written comments and/or suggestions regarding the item(s) contained in this notice, especially regarding the estimated public burden and associated response time, should be directed to the Department of Homeland Security (DHS), and to the Office of Information and Regulatory Affairs, Office of Management and Budget (OMB), USCIS Desk Officer. Comments may be submitted to: Chief, Regulatory Coordination Division, Office of Policy and Strategy, USCIS, DHS, 20 Massachusetts Avenue NW., Suite 5012, Washington, DC 20529-2210. Comments may also be submitted to DHS via facsimile to 202-272-8352 or via email at USCISFRComment@dhs.gov, and to the OMB USCIS Desk Officer via facsimile at 202-395-6974 or via email at oira_submission@omb.eop.gov.

Note: The address listed in this notice should only be used to submit comments concerning this information collection. Please do not submit requests for individual case status inquiries to this address. If you are seeking information about the status of your individual case, please check “My Case Status” online at: https://egov.uscis.gov/cris/Dashboard.do, or call the USCIS National Customer Service Center at 1-800-375-5283.

When submitting comments by email please make sure to add OMB Control Number 1615-0080 in the subject box. Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of This Information Collection

(1) Type of Information Collection: Extension of an existing information collection.

(2) Title of the Form/Collection: USCIS Case Status Online.

(3) Agency form number, if any, and the applicable component of the Department of Homeland Security sponsoring the collection: No Agency Form Number (File No. OMB-33); U.S. Citizenship and Immigration Services.

(4) Affected public who will be asked or required to respond, as well as a brief abstract: Primary: Individuals or households, for-profit organizations, and not-for-profit organizations. This system allows individuals and their representatives to request case status of pending applications through USCIS' Web site.

(5) An estimate of the total number of respondents and the amount of time estimated for an average respondent to respond: 20,000,000 responses at 0.075 hours (4½ minutes) per response.

(6) An estimate of the total public burden (in hours) associated with the collection: 1,500,000 annual burden hours.

If you have additional comments, suggestions, or need a copy of the proposed information collection instrument with instructions, or additional information, please visit http://www.regulations.gov.

If additional information is required contact: USCIS, Regulatory Coordination Division, 20 Massachusetts Avenue NW., Suite 5012, Washington, DC 20529-2210, (202) 272-8377.

Dated: April 10, 2012.
Sunday Aigbe,
Acting Chief, Regulatory Coordination Division, Office of Policy and Strategy, U.S. Citizenship and Immigration Services.

[FR Doc. 2012-8985 Filed 4-12-12; 8:45 am]

BILLING CODE 9111-97-P